SMALL BUSINESS ADMINISTRATION

[Disaster Declaration #12675 and #12676]

Arizona Disaster #AZ-00016

AGENCY: U.S. Small Business Administration.

ACTION: Amendment 1.

SUMMARY: This is an amendment of the Administrative declaration of disaster for the State of Arizona dated 07/11/2011.

Incident: Monument Fire, Subsequent Mudslides and Monsoonal Flooding.

Incident Period: 06/12/2011 and continuing.

Effective Date: 07/21/2011.

Physical Loan Application Deadline Date: 09/09/2011.

Economic Injury (EIDL) Loan Application Deadline Date: 04/11/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Administrator's disaster declaration for the State of Arizona, dated 07/11/2011 is hereby amended to modify the incident description for this disaster from Monument Fire to Monument Fire, Subsequent Mudslides and Monsoonal Flooding.

All other information in the original declaration remains unchanged.

(Catalog of Federal Domestic Assistance Numbers 59002 and 59008)

Dated: July 21, 2011.
Karen G. Mills,
Administrator.

[FR Doc. 2011-19148 Filed 7-28-11; 8:45 am]

BILLING CODE 8025-01-P